DEPARTMENT OF TRANSPORTATION

Pipeline and Hazardous Materials Safety Administration

Notice of Applications for Modification of Special Permits

AGENCY: Pipeline and Hazardous Materials Safety Administration (PHMSA), DOT.

ACTION: List of applications for modification of special permits

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before September 5, 2013.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington, DC, on August 8, 2013.
Don Burger,
Chief, General Approvals and Permits.

Application No. | Docket No. | Applicant | Regulation(s) Affected | Nature of Special Permit Thereof
Modification Special Permits
10232-M |  | ITW Sexton Decatur, AL | 49 CFR 173.304(d) and 173.306(a)(3) | To modify the special permit to authorize a Division 2.1 material
11373-M |  | Marlin Company, Inc. Lenoir, NC | 49 CFR 177.848(d) | To modify the special permit to authorize 1H2 drums as additional packaging.
14188-M |  | IDQ Operating Inc. Tarrytown, NY | 49 CFR 173.304(d), 173.306(a)(3) and 178.33a | To modify the special permit to reflect current statutes and regulations pertaining to consumer commodities.
14770-M |  | Nova Chemicals Corporation Moon Township, PA | 49 CFR 173.242 | To modify the special permit to reference Silvan Industries' portable tank drawings in paragraph 7.a. of the special permit.
14867-M |  | GTM Manufacturing, LLC Amarillo, TX | 49 CFR 173.302a and 173.304 | To modify the special permit to authorize a 30 year service life for the cylinders.
15797-M |  | Veolia ES Technical Solutions, L.L.C. Flanders, NJ | 49 CFR 172.320 and 173.56(b) | To modify the special permit originally issued on an emergency basis to routine with a two year renewal.

[FR Doc. 2013-20267 Filed 8-20-13; 8:45 am]

BILLING CODE 4910-60-P